DEPARTMENT OF TRANSPORTATION

National Highway Traffic Safety Administration

49 CFR Part 577

[Docket No. NHTSA-2016-0001]

RIN 2127-AL66

Update Means of Providing Recall Notification

AGENCY: National Highway Traffic Safety Administration (NHTSA), Department of Transportation (DOT).

ACTION: Notice of proposed rulemaking (NPRM).

SUMMARY: NHTSA proposes to amend the means of recall notification to owners and purchasers required under the Safety Act to be in an electronic manner, in addition to first class mail, in accordance with Section 30130 of the Moving Ahead for Progress in the 21st Century Act (MAP-21) and Section 24104 of the Fixing America's Surface Transportation Act (FAST Act). Through this proposed rule, NHTSA also seeks to improve the efficacy of recalls by requiring manufacturers to send additional notifications of defects or noncompliance with applicable Federal Motor Vehicle Safety Standards (FMVSS) if a second notification by the manufacturer does not result in an adequate number of motor vehicles or replacement equipment being returned for remedy.

DATES: Comments must be received on or before October 31, 2016. In compliance with the Paperwork Reduction Act, NHTSA is also seeking comment on amendments to an information collection. See the Paperwork Reduction Act section under Rulemaking Analyses and Notices below. Please submit all comments relating to the information collection requirements to NHTSA and to the Office of Management and Budget (OMB) at the address listed in the ADDRESSES section on or before October 31, 2016. Comments to OMB are most useful if submitted within 30 days of publication.

ADDRESSES: You may submit comments by any of the following methods:

• Internet: Go to http://www.regulations.gov and follow the online instructions for submitting comments.

• Mail: Docket Management Facility, M-30, U.S. Department of Transportation, 1200 New Jersey Avenue SE., West Building, Room W12-140, Washington, DC 20590.

• Hand Delivery or Courier: U.S. Department of Transportation, 1200 New Jersey Avenue SE., West Building, Room W12-140, Washington, DC 20590 between 9 a.m. and 5 p.m. Eastern Time, Monday through Friday, except Federal holidays.

• Facsimile: (202) 493-2251.

Regardless of how you submit your comments, please include the docket number of this document.

You may also call the Docket at (202) 366-9322.

Note that all comments received will be posted without change to http://www.regulations.gov, including any personal information provided. Please see the Privacy Act discussion below.

Privacy Act: Anyone is able to search the electronic form of all comments name of the individual submitting the comment (or signing the comment, if submitted on behalf of an association, business, labor union, etc.). You may review DOT's complete Privacy Act Statement in the Federal Register published on April 11, 2000 (65 FR 19476 at 19477-78).

FOR FURTHER INFORMATION CONTACT: For substantive issues: Jennifer Timian, Office of Defects Investigation, National Highway Traffic Safety Administration, at (202) 366-4000. For legal issues: Justine Casselle, Office of the Chief Counsel, National Highway Traffic Safety Administration, at (202) 366-2992.

SUPPLEMENTARY INFORMATION:

I. Executive Summary

II. Notification Requirements Before and After MAP-21 and FAST Act

III. NHTSA's Proposed Amendment To Require Notification to Owners and Purchasers by Electronic Means in Addition to Notification by First Class Mail

A. Public Response to NHTSA's ANPRM

B. Suggested Approaches for Electronic Notification

C. Limitations to Electronic Notification Approaches

D. Privacy Considerations and Impacts of Any Existing Laws

IV. Proposed Changes to Notification Requirements

V. Proposed Changes to Follow-Up Requirements

VI. Rulemaking Analyses and Notices

A. Adjusted Estimates for Current Information Collections

B. Estimates for New Information Collections

I. Executive Summary

In the Moving Ahead for Progress in the 21st Century Act (MAP-21), Congress enacted a provision authorizing NHTSA to amend the means by which a manufacturer of a motor vehicle or motor vehicle equipment provides notification to owners, purchasers, and dealers that a vehicle or equipment contains a defect related to motor vehicle safety or does not comply with an applicable federal motor vehicle safety standard (FMVSS). Public Law 112-141, 31310, 126 Stat. 758 (2012). More recently, Section 24104 of the Fixing America's Surface Transportation Act (FAST Act) expressly provided that NHTSA amend 49 CFR part 577 to require notification to owners and purchasers by electronic means in addition to notification by first class mail. Public Law 114-94, 24104 (2015). MAP-21 further authorized NHTSA to improve recall effectiveness by requiring manufacturers to send additional notifications of defects or noncompliance if a second notification by the manufacturer does not result in an adequate number of motor vehicles or equipment being returned for remedy. Public Law 112-141, 31310, 126 Stat. 758 (2012). NHTSA issued an Advanced Notice of Proposed Rulemaking (ANPRM) soliciting comments and supporting information about what NHTSA might require as to electronic notification. See 81 FR 4007 (January 25, 2016). We asked questions to facilitate comments from stakeholders on what means of notification, based on their experience, have been most effective in providing information to customers and motivating customers to have safety recall remedies performed. As part of implementing the MAP-21 and FAST Act notification provisions, and after consideration of comments received in response to the ANPRM, we now propose to amend Part 577 to require electronic notification means in addition to first class mail notification to owners and purchasers. This proposed update is not intended to change the scope of the existing rule, other than as specifically described in this notice, but is intended to aid in efficiently and effectively improving safety recall completion rates.

II. Notification Requirements Before and After MAP-21 and FAST Act

49 U.S.C. 30118(c) requires that, in the event of a defect or noncompliance with an applicable FMVSS in a motor vehicle or replacement equipment, manufacturers notify owners, purchasers, and dealers of the vehicle or equipment pursuant to 49 U.S.C. 30119. The manner by which this required notice is given to owners, purchasers, and dealers of vehicles or equipment is governed by 49 U.S.C. 30119(d). Prior to MAP-21, for vehicle recalls, section 30119(d) required notice to be sent by first class mail to the registered owner or, if the registered owner could not be identified, to the most recent purchaser known to the manufacturer. 49 U.S.C. 30119(d)(1)(A)-(B). For recalls of replacement equipment, the statute required notification by first class mail to the most recent purchaser. Id. Manufacturers were also required to notify dealers under the statute “by certified mail or quicker means if available.” 49 U.S.C. 30119(d)(4).

Section 31310 of MAP-21 amended the notice provisions in 49 U.S.C. 30119(d) to allow the Secretary of Transportation, and by delegation NHTSA's Administrator, the flexibility to determine the manner by which notifications about safety recalls under 49 U.S.C. 30118 must be sent. The amended statutory language authorized the Agency to engage in a rulemaking to permit notification to owners and purchasers of safety recalls by means other than first class mail. In December 2015, Congress enacted the FAST Act expounding on this authority by expressly requiring the Agency to amend 49 CFR 577.7 to include notification to owners and purchasers by electronic means in addition to notification by first class mail.¹

¹ Notification to dealers and distributors is generally required to be sent “by certified mail, verifiable or electronic means such as receipts or logs from electronic mail or satellite distribution system, or other more expeditious and verifiable means.” 49 CFR 577.7(c)(2). Dealers and distributors are not notified by first class mail. Therefore, the FAST Act did not require the Agency to change the means of notification for dealers and distributors, and we are not proposing to do so.

Section 31310 of MAP-21 aimed to improve the efficacy of recalls not just through updating the means of notification, but also through allowing the Secretary to order additional notifications when necessary. Previously, 49 U.S.C. 30119(e) authorized the Secretary to order a second notification if the Secretary determined that the first notification failed to result in an adequate number of motor vehicles or items of equipment being returned for remedy. The statute was silent, however, as to whether additional notifications beyond a second notification could be required. Section 31310 resolved this question by amending 49 U.S.C. 30119(e), which now, under 49 U.S.C. 30119(e)(2)(A)(i), authorizes the Secretary to order additional notifications if the Secretary determines that a second notification also failed to result in an adequate number of motor vehicles or items of equipment being returned for remedy.

III. NHTSA's Proposed Amendment To Require Notification to Owners and Purchasers by Electronic Means in Addition to Notification by First Class Mail

In the ANPRM, NHTSA invited comments and supporting information on how the Agency can best leverage the new flexibilities given under MAP-21 and the FAST Act to update the required means manufacturers use, whether as a first notification or as a follow-up notification, to successfully notify their customers and urge them toward seeking the free remedies offered. The ANRPM posed several questions about the variety of means and methods manufacturers use to communicate with their customers. Additionally, the ANPRM posed several questions about general owner knowledge and behavior, and asked commenters to present any data on owner behavior in the recall context, including whether owners were responsive to incentives and to the currently prescribed content and layout of the notifications.

A. Public Response to NHTSA's ANPRM

We received 16 comments in response to the ANPRM regarding our proposed update of Part 577. Comments were submitted by Advocates for Highway Safety; Alliance of Automobile Manufacturers (Alliance); American Automotive Leasing Association; IHS Automotive (IHS); FCA US LLC (FCA); General Motors LLC (GM); Global Automakers (Global); NAFA Fleet Management Association (NAFA); National Automobile Dealers Association (NADA); National Independent Automobile Dealers Association (NIADA); Rubber Manufacturers Association (RMA); Pandora Media, Inc. (Pandora); Tire Industry Association (TIA); Truck and Engine Manufacturers Association (EMA); New Jersey Gasoline, C-Store, and Automotive Association (NJGCA); and Tesla Motors (Tesla).

Many of the comments addressed general owner knowledge and behavior and proposed potential changes to the specific information provided to owners and the layout of the notifications. Many also proposed that NHTSA should conduct studies on these matters. Although the comments were insightful, NHTSA is not proposing additional or changed requirements as to the specific content and layout of notifications at this time. This NPRM is limited to updating the means of notification by requiring electronic notification.

B. Suggested Approaches for Electronic Notification

Most commenters generally supported the use of electronic means and provided suggestions on which types would be best suited for recall notifications. Advocates for Highway Safety stated its belief that email and text message notification should be required, as both methods allow for delivery receipt. It also suggested that newspaper, radio, television, internet, and social media be required methods of notification. Finally, it suggested that manufacturers use direct-to-vehicle communications to notify owners.

IHS suggested that social media, digital radio broadcasts, and connected car applications are “future looking applications of reaching audiences who may not respond to direct mail or even email notices.” IHS further commented that some manufacturers use a method called Voice Broadcast which is a “notice in advance of the mailing or other communication to alert the consumer to the forthcoming first class mail communication.”

The Alliance recommended that the Agency permit a multi-tiered approach that allows manufacturers to use a variety of electronic communication methods. The Alliance noted that manufacturers already use multiple electronic communication methods such as “robo-calls, agent-assisted calls, Facebook notifications, and other means,” especially when recall completion rates are low.

Similar to the Alliance's comments, GM suggested that any changes to Part 577 be flexible, allowing for new technologies as they arise, and further commented that the demographics of the vehicle and the particular recall issue must be better understood as they each play a key role in recall completion rates. GM noted that it has used robo-calls, live calls, in-vehicle calls, and social media to reach out to its owners. The company found social media effective for the purpose of raising awareness, but could not tie it to significant gains in recall completion.

Tesla provided a contextual example of successful electronic notifications used in a recent recall. As Tesla has every Tesla customer's email address, email notifications were sent to every customer two weeks before the physical mailings were ready to be mailed. Thirty percent of Tesla customers had their vehicle remedied by the time the physical mailings were sent via first class mail. Tesla agrees that electronic notification is instantaneous but, though very effective, should be supplemental to the current first class mail standard.

NAFA agreed that electronic notification should be added to the existing first class mail notification.

NIADA suggested that NHTSA move away from a “one-sized fits all approach,” and allow notification means such as email, text messaging, internet, OnStar, Blue Link, and other technologies. NIADA commented broadly that it supports strategies that expand how owners are reminded of recalls.

Pandora noted that it worked with GM in the past to notify targeted owners with audio notifications about open recalls. Pandora further shared that its notifications are interactive and can connect a user directly to scheduling or to a manufacturer's Web site.

EMA shared that many fleets and dealers already use a variety of electronic means to connect with owners, such as email, telephone, text messages, direct service database flags, and more.

TIA and NJGCA provided no data as to the effectiveness of first class mail notifications, but opined that “change-of-address” impacts notifications. TIA further commented that tire manufacturers “could use the Internet and social media to notify owners about safety recalls . . .” but tire manufacturers currently only provide first class mail notifications and sometimes a press release.

C. Limitations to Electronic Notification Approaches

Not all commenters supported the use of electronic means during the recall notification process and some commenters highlighted some concerns or limitations with various methods of electronic communications.

Survey results provided by the Alliance and Global included information about the success of various means of notification. Per the results, neither was able to correlate recall completion rates with a specific outreach method. The Alliance and Global noted that there is no ability to connect social media outreach to particular VINs and no guarantee that owners will not treat emails from manufacturers as SPAM or JUNK, even with a valid delivery receipt.

GM also recognized some concerns such as the difficulty of obtaining owner email addresses without paying a third-party and social media privacy policies. GM did not recommend that email notification replace first class mail notification, and noted that delivery rates through first class mail can be as high as 96%.

The American Automotive Leasing Association stated its position that a change to Part 577 should not burden lessors with requirements to send any additional notifications, email or otherwise, to vehicle lessees.

EMA commented that existing first class mail notification is very effective for commercial vehicle recalls because the owner records are typically better kept amongst the commercial vehicle market. Additionally, EMA does not believe social media notifications will be useful for the commercial vehicle market.

D. Privacy Considerations and Impacts of Any Existing Laws

Three (3) commenters, the Alliance, GM, and TIA, commented on specific privacy concerns or existing state and Federal laws that might be impacted by the use of electronic recall communications.

GM noted that the expertise to market via electronic communications is often housed in the manufacturer's marketing department. While a specific legal restriction was not cited, GM did suggest that owner data from state registrations would need housing in a “safe haven” where the manufacturer could only use that data within legal constraints. GM further mentioned that some social media privacy policies restrict the amount of feedback the vehicle manufacturer can obtain and some publishers do not offer any feedback at all. As such, it would be difficult to measure the effectiveness of some social media recall notifications.

The Alliance commented that some forms of social media, like Twitter, restrict the amount of content shared to users. For example, a recall communication containing a summary of the recall, safety risk, available remedy, and contact information would be difficult to transmit given Twitter's 140 character limit restriction. Also, the Alliance recommended an additional study needed to ensure new means of notification do not conflict with the Controlling the Assault of Non-Solicited Pornography and Marketing Act (CAN-SPAM Act), the Telephone Consumer Protection Act (TCPA), and the Do-Not-Call Implementation Act as amended.

TIA cautioned the Agency in requiring additional personal information to be provided back to the tire manufacturers in order to facilitate electronic recall notifications. TIA noted that 49 CFR part 574 prohibits manufacturers from using registration information for marketing purposes; however, TIA claims tire manufacturers have circumvented this prohibition and TIA worries any additional data that tire retailers must collect (such as customer email addresses) may create a competitive disadvantage to independent tire retailers.

IV. Proposed Changes to Notification Requirements

After considering the relevant comments provided, we propose to amend 49 CFR 577.7 to require notification by electronic means in addition to first class mail every time a recall notification is required. The proposal gives the recalling manufacturer the flexibility to define and determine the electronic means they feel are most effective to employ in an effort to optimize the recalls completion for a particular recall campaign. As many of the commenters noted, there are a wide variety of electronic means currently available for use by manufacturers and some have chosen to use as a supplementary means of notification with varying degrees of success. A flexible approach values the knowledge and experience of the recalling manufacturers concerning what means are most likely to reach and resonate with their owners and motivate them toward taking steps to have their products remedied.

Accordingly, we propose defining “electronic means” to include “electronic mail, text messages, radio or television notifications, vehicle infotainment console messages, over-the-air alerts, social media or targeted online campaigns, phone calls, including automated phone calls, or other real time means.” As with any recall communication, the Agency retains the discretion to require other means and additional notifications if the manufacturer's chosen means is impractical, does not feasibly reach all of the purchasers or owners impacted, or the Agency otherwise deems inappropriate. At this time we decline to set any additional and mandatory notification means beyond the electronic means identified here.

The Agency recognizes that the proposed definition of “electronic means” is broad and that certain proposed means of electronic notification may be difficult to achieve in practice given the current content requirements of 49 CFR part 577. We propose a broad definition of “electronic means” now in anticipation that we may amend the content requirements of 49 CFR part 577 in the future. However, at this time, we propose to require that any electronic notification issued under this paragraph comply with the content requirements of 49 CFR part 577, or provide a hyperlink to a notice that complies with the content requirements of 49 CFR part 577, or a representative copy of such a notice along with instructions on how a vehicle owner can determine whether his or her vehicle is impacted.

Vehicle safety recalls require inclusion of the owner's VIN in the part 577 notification letter. We recognize that is not always feasible through social media or other electronic means where a notice may be viewed by more than one individual. In that case, a representative copy of a notice may be used, so long as additional information is given as to how an owner could readily determine whether his or her vehicle or equipment is impacted by the recall. For those manufacturers that are currently required to support NHTSA's VIN search tool and offer VIN-based safety recall search tools on their Web sites pursuant to existing regulation, the communication must also direct viewers to NHTSA's VIN search tool ¹ and the manufacturer's search tool.

¹ NHTSA's VIN search tool is available at https://vinrcl.safercar.gov/vin/.

It must be noted that this proposed rule does not alter a manufacturer's requirements under 49 CFR part 573, nor is an amendment to 49 CFR part 573 required at this time. Manufacturers must continue to comply with 49 CFR 573.6 by filing representative copies of “all notices, bulletins, and other communications that relate directly to the defect or noncompliance and are sent to more than one manufacturer, distributor, dealer or purchaser.” Electronic notifications are notices, bulletins, or other communications under 49 CFR 573.6. Currently, manufacturers provide representative copies to NHTSA via the online Recalls Portal. Upon the publishing of the Final Rule, manufacturers will continue to do so, as the online Recalls Portal will be updated to allow for manufacturers to select their choice among one of the allowable electronic means. Representative copies are required even if a manufacturer chooses to issue Part 577-compliant notices via electronic means such as radio or television notifications, vehicle infotainment console messages, over-the-air alerts, telephone calls, or other allowable means. In practice, manufacturers can submit to the online Recalls Portal copies of electronic messages (emails), screenshots of messages or alerts, and scripts of calls or ads, for example.

We also note that 49 CFR 577.7(c)(2) concerning notifications to dealers and distributers already contains language providing for notification “by certified mail, verifiable electronic means such as receipts or logs from electronic mail or satellite distribution system, or other more expeditious and verifiable means. . . .” At this time, the Agency does not believe a change to the required means of notification to dealers and distributers is warranted.

In response to concerns expressed about whether the proposed electronic notification requirement will conflict with existing federal laws aimed at protecting consumers and businesses from unwanted electronic messages, the Agency's position is that it will not. Recall notifications are safety-related informational messages. The proposed changes in this rulemaking are not intended to exempt from federal laws, including but not limited to the CAN-SPAM Act, the TCPA, and the Do-Not-Call Implementation Act, conduct that is unlawful under those laws.

We request comments on this proposal and any alternative approaches that allow for numerous electronic notification means, but at the same time ensure that the notification communicates the long-standing and essential components of traditional Part 577 first class mailings. That is, that the manufacturer had decided there is a safety defect or failure to meet minimum safety standards; that the safety defect or failure to comply increases the risk of a motor vehicle crash, injury and/or fire; a safety recall is being conducted; and a remedy will be provided at no cost. More specifically, we request comment on our proposed approach to permit discretion in the means chosen to meet the requirement of electronic notification. In addition to our request for comments on our proposed definition of “electronic means,” we request comment on whether the terms “social media or targeted online campaigns” need further definition, given that such proposed electronic notification means are fundamentally different from other means targeted at individual owners. Finally, we request comment on our proposal to require inclusion of directions to NHTSA's VIN search tool and the manufacturer's search tool, for social media campaigns, for example, which we believe will allow owners to readily ascertain the application of the safety recall to vehicles and equipment they own.

V. Proposed Changes to Follow-Up Requirements

As mentioned above, MAP-21 authorized NHTSA to require manufacturers to send additional notifications of defects or noncompliance if a second notification by the manufacturer does not result in an adequate number of motor vehicles or equipment being returned for remedy. Public Law 112-141, § 31310, 126 Stat. 758 (2012). Although 49 CFR 577.10 currently provides that the Administrator “may authorize the use of other media besides first-class mail for a follow-up notification,” we propose a minor revision to this section for clarity and consistency purposes. Still subject to the Administrator's approval, we propose clarifying that a follow-up notification shall be sent by first class mail and by electronic means in the same manners we propose be included in 49 CFR 577.7 above. We request comment on this proposed clarification.

VI. Rulemaking Analyses and Notices

Executive Orders 12866 and 13563, and DOT Regulatory Policies and Procedures

This rulemaking document was not reviewed under Executive Order 12866 or Executive Order 13563. NHTSA has considered the impact of this NPRM under the Department of Transportation's regulatory policies and procedures. This action would amend Part 577 to update the procedures by which manufacturers notify owners, purchasers, and dealers of defects and noncompliances in an effort to improve vehicle safety recall completion rates. The rulemaking imposes no new significant burdens on the manufacturers and does not create significant related costs that would require the development of a full cost/benefit evaluation. Since this action also does not change the number of those organizations or individuals subject to this requirement, the impacts of the rule are limited. Therefore, this rulemaking has been determined to be not “significant” under the Department of Transportation's regulatory policies and procedures and the policies of the Office of Management and Budget.

Regulatory Flexibility Act

We have also considered the impact of this notice under the Regulatory Flexibility Act. I certify that this rule is not expected to have a significant economic impact on a substantial number of small entities. The following provides the factual basis for this certification under 5 U.S.C. 605(b). The amendments almost entirely affect manufacturers of motor vehicles and motor vehicle equipment.

SBA uses size standards based on the North American Industry Classification System (“NAICS”), Subsector 336—Transportation Equipment Manufacturing, which provides a small business size standard of 1,000 employees or fewer for automobile manufacturing businesses. Other motor vehicle-related industries have lower size requirements that range between 100 and 750 employees. For example, according to the SBA coding system, businesses that manufacture truck trailers, travel trailers/campers, and vehicular lighting equipment, qualify as small businesses if they employ 500 or fewer employees. Small businesses are subject to the notification requirements and therefore may be affected by the proposed changes in this NPRM. However, the impacts of this rulemaking on small businesses are minimal, as this proposed procedural update does not impose a significant additional burden or additional costs.

Unfunded Mandates Reform Act of 1995

The Unfunded Mandates Reform Act of 1995, Public Law 104-4, requires agencies to prepare a written assessment of the cost, benefits and other effects of proposed or final rules that include a federal mandate likely to result in the expenditure by State, local, or tribal governments, in the aggregate, or by the private sector, of more than $100 million annually. Because this rulemaking would not have a $100 million effect, no Unfunded Mandates assessment will be prepared.

Paperwork Reduction Act

Under the Paperwork Reduction Act of 1995 (PRA) (44 U.S.C. 3501, et. seq.), Federal agencies must obtain approval from the Office of Management and Budget (OMB) for each collection of information they conduct, sponsor, or require through regulations. In compliance with the PRA, we announce that NHTSA is seeking comment on a revision of a currently approved collection.

Agency: National Highway Traffic Safety Administration (NHTSA).

Title: 49 CFR part 577, Defect and Noncompliance Notification.

Type of Request: Revision of a currently approved collection.

OMB Control Number: 2127-0004.

Form Number: The collection of this information uses no standard form.

Requested Expiration Date of Approval: Three (3) years from the date of approval.

Summary of the Collection of Information

This approved information collection is associated with 49 CFR Part 573 and portions of 49 CFR part 577, and consists of important safety recall information that motor vehicle and motor vehicle equipment manufacturers must submit.

Description of the Need for the Information and Use of the Information

The information is needed for NHTSA to better serve the public by effectively monitoring safety recalls and by providing timely recall information to consumers regarding specific vehicles. Owners and purchasers will benefit from the increased ease with which they can ascertain information on recalled vehicles. The public at large will benefit from a decrease in the numbers of defect or noncompliant vehicles on public roads and, concurrently, a decrease in the incident or risk of incident of injuries and fatalities associated with those defects and failures to comply, that we expect to result from increased recalls completion rates stemming from the public's enhanced ability to quickly locate important safety recall information on vehicles they drive.

Description of the Likely Respondents (Including Estimated Number, and Proposed Frequency of Response to the Collection of Information)

Should this proposal be made final, we expect that all manufacturers regulated by NHTSA and currently subject to the defect and noncompliance reporting and notification requirements will continue to be subject to the updated requirements.

Estimate of the Total Annual Reporting and Recordkeeping Burden Resulting From the Collection of Information

Today's proposed rule requiring manufacturers to notify their affected owners by electronic means in addition to first class mail notifications will add some paperwork burden to the industry. However, electronic methods such as email, social media accounts, over-the-air communications and others are existing technologies and largely free of charge.

Given the recent increase in the number of safety recalls the Agency administers yearly and the volume of products included in those recalls, this information collection burden hour total is increased from previous estimates. The Agency anticipates that each recall will require 4 burden hours for the manufacturer to plan its strategy for meeting the electronic notification requirement and executing that strategy. With an estimated 854 recalls filed each year, we estimate a new 3,416 burden hours (854 recalls x 4 hours) for this new requirement.

Comments are invited on:

• Whether the collection of information is necessary for the proper performance of the functions of the Department, including whether the information will have practical utility.

• Whether the Department's estimate for the burden of the information collection is accurate.

• Ways to minimize the burden of the collection of information on respondents, including the use of automated collection techniques or other forms of information technology.

A comment to OMB is most effective if OMB receives it within 30 days of publication. Send comments to the Office of Information and Regulatory Affairs, Office of Management and Budget, 725 17th Street NW., Washington, DC 20503, Attn: NHTSA Desk Officer. PRA comments are due within 30 days following publication of this document in the Federal Register.

The Agency recognizes that the collection of information contained in today's proposed rule may be subject to revision in response to public comments.

Regulatory Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

Privacy Act

Anyone is able to search the electronic form of all comments received into any of our dockets by the name of the individual submitting the comment (or signing the comment, if submitted on behalf of an association, business, labor union, etc.). You may review DOT's complete Privacy Act Statement in the Federal Register published on April 11, 2000 (65 FR 19477-78).

List of Subjects in 49 CFR Part 577

Administrative practice and procedure, Motor vehicles, Motor vehicle safety, Reporting and recordkeeping requirements.

Proposed Regulatory Text

For the reasons set forth in the preamble, NHTSA proposes to amend 49 CFR part 577 as follows:

PART 577—DEFECT AND NONCOMPLIANCE NOTIFICATION

1. The authority citation for part 577 continues to read as follows:

Authority: 49 U.S.C. 30102, 30103, 30116-121, 30166; delegation of authority at 49 CFR 1.95 and 49 CFR 501.8.

2. Amend § 577.7 by revising paragraph (a)(2)(i) through (iv) and adding paragraphs (a)(2)(v) and (vi) to read as follows:

§ 577.7 Time and manner of notification.

(a) * * *

(2) * * *

(i) In the case of a notification required to be sent by a motor vehicle manufacturer, by first class mail and by electronic means to each person who is registered under State law as the owner of the vehicle and whose name and address are reasonably ascertainable by the manufacturer through State records or other sources available to him. If the owner cannot be reasonably ascertained, the manufacturer shall notify the most recent purchaser known to the manufacturer. The manufacturer shall also provide notification to each lessee of a leased motor vehicle that is covered by an agreement between the manufacturer and a lessor under which the manufacturer is to notify lessees directly of safety-related defects and noncompliances.

(ii) In the case of a notification required to be sent by a replacement equipment manufacturer—

(A) By first class mail and by electronic means to the most recent purchaser known to the manufacturer, and

(B) (Except in the case of a tire) if decided by the Administrator to be required for motor vehicle safety, by public notice in such manner as the Administrator may require after consultation with the manufacturer.

(iii) In the case of a manufacturer required to provide notification concerning any defective or noncomplying tire, by first class or certified mail and by electronic means.

(iv) In the case of a notification to be sent by a lessor to a lessee of a leased motor vehicle, by first class mail and by electronic means to the most recent lessee known to the lessor. Such notification shall be sent within ten days of the lessor's receipt of the notification from the vehicle manufacturer.

(v) Notification by electronic means required by paragraph (a)(2) of this section is defined to include notification by electronic mail, text messages, radio or television notifications, vehicle infotainment console messages, over-the-air alerts, social media or targeted online campaigns, telephone calls, automated or otherwise, or other real time means. No matter the means identified by the manufacturer, the Administrator retains the discretion to require other means and additional notifications if the manufacturer's chosen means is impractical, does not feasibly reach all of the purchasers or owners impacted, or is otherwise deemed inappropriate. Any electronic notification issued under this paragraph must either comply with the content requirements of § 577.5(b) through (g) of this part, provide an internet hyperlink to a notice that complies with the content requirements of § 577.5(b) through (g), or provide an internet hyperlink to a representative copy of a notice that complies with the content requirements of § 577.5(b) through (g) along with instructions on how the purchaser or owner can determine whether his or her vehicle or equipment is impacted.

(vi) In the case of a notification by electronic means that may be viewed by more than one individual, manufacturers who are currently required to support NHTSA's VIN search tool and offer VIN-based safety recall search tools pursuant to existing regulation under this chapter, such notification must direct viewer to NHTSA's VIN search tool and the manufacturer's search tool.

* * * * *

3. Amend § 577.10 by revising paragraph (g) to read as follows:

§ 577.10 Follow-up notification.

* * * * *

(g) A follow-up notification shall be sent by first class mail and by electronic means pursuant to § 577.7(a)(2) of this part. Notwithstanding any other provision of this part, the Administrator may authorize the use of other media besides first class mail and electronic means for a follow-up notification.

* * * * *

Issued in Washington, DC, on August 25, 2016 under authority delegated pursuant to 49 CFR 1.95.
Gregory K. Rea,
Associate Administrator for Enforcement.

[FR Doc. 2016-20926 Filed 8-31-16; 8:45 am]

BILLING CODE 4910-59-P